DEPARTMENT OF COMMERCE

National Institute of Standards and Technology

[Docket Number: 090306283-9284-01]

Recovery Act Measurement Science and Engineering Research Grants Program

AGENCY: National Institute of Standards and Technology, Commerce.

ACTION: Notice.

SUMMARY: The National Institute of Standards and Technology (NIST) is establishing a financial assistance program to award research grants and cooperative agreements to support measurement science and engineering research proposals in the following six focus areas: Energy; environment and climate change; information technology/cybersecurity; biosciences/healthcare; manufacturing; and physical infrastructure, as part of NIST's activities implementing the American Recovery and Reinvestment Act of 2009 (ARRA or Recovery Act).

DATES: All proposals must be received no later than 3 p.m. Eastern Daylight Saving Time on Monday, July 13, 2009. Late proposals will not be reviewed or considered.

ADDRESSES: Proposals may be submitted in hard copy or in electronic format. Hard copy proposals may be submitted to Dr. Jason Boehm, National Institute of Standards and Technology, 100 Bureau Drive, Stop 1060, Gaithersburg, MD 20899-1060. Electronic proposals may be uploaded to http://www.Grants.gov.

FOR FURTHER INFORMATION CONTACT: For complete information about this program and instructions for applying by paper or electronically, read the Federal Funding Opportunity Notice (FFO) at http://www.grants.gov. A paper copy of the FFO may be obtained by calling (301) 975-5718. Technical questions should be addressed to Dr. Jason Boehm at the address listed in the Addresses section above, or at Tel: (301) 975-4455; E-mail: jason.boehm@nist.gov; Fax: (301) 216-0529. Grants Administration questions should be addressed to Grants and Agreements Management Division, National Institute of Standards and Technology, 100 Bureau Drive, Stop 1650, Gaithersburg, MD 20899-1650; Tel: (301) 975-5718; E-mail: grants@nist.gov; Fax: (301) 840-5976. For assistance with using Grants.gov contact support@grants.gov.

SUPPLEMENTARY INFORMATION:

Authority: 15 U.S.C. § 272(b) and (c); Pub. L. 111-5, 123 Stat. 115.

Catalog of Federal Domestic Assistance Name and Number: Measurement and Engineering Research and Standards—11.609

Program Description: In response to the American Reinvestment and Recovery Act (Pub. L. 111-5, 123 Stat. 115), the National Institute of Standards and Technology (NIST) will provide grants and cooperative agreements for measurement science and engineering research in the following six focus areas of critical national importance: Energy; environment and climate change; information technology/cybersecurity; biosciences/healthcare; manufacturing; and physical infrastructure, with priority funding in areas of special interest to NIST. Please see the FFO for detailed information on each area of critical national importance. The program is intended to advance the state of knowledge and practice in these areas of critical national importance, in support of NIST's mission to promote U.S. innovation and industrial competitiveness by advancing measurement science, standards, and technology in ways that enhance economic security and improve our quality of life. The program will advance purposes established in Section 3 of the Recovery Act by creating jobs, promoting economic recovery, providing investments needed to increase economic efficiency by spurring technological advances in science and health, making investments in research areas such as environmental protection and infrastructure that will provide long-term economic benefits, and will help stabilize state and local government budgets, in order to minimize and avoid reductions in essential services and counterproductive state and local tax increases.

Competitive proposals will also result in achieving commencement of expenditures and activities as quickly as possible consistent with prudent management. Applicants may propose projects that include collaboration between scientific staff and NIST to help advance these program objectives. Please see information below regarding collaborations with NIST employees.

Program Priorities: Proposals submitted to the Recovery Act Measurement Science and Engineering Research Grants Program must address one of the areas of critical national importance described in the FFO. Applicants should clearly note which program area (e.g., energy) the proposal is addressing. Proposals that address the sub-topics listed in the FFO will receive high priority for consideration of funding. Applicants whose proposal addresses a sub-topic listed in the FFO should also clearly note which sub-topic the proposal addresses.

Funding Availability: NIST plans to award up to $35 million in grants and cooperative agreements (20-60 awards expected), as appropriate to support measurement science and engineering research in areas of critical national importance. Where cooperative agreements are used, the nature of NIST's “substantial involvement” will generally be collaboration with the recipient by working jointly with a recipient scientist in carrying out the scope of work, or specifying direction or redirection of the scope of work due to inter-relationships with other projects requiring such cooperation.

Proposals for research or other activity under this notice should have a duration lasting between one and three years. All projects approved by NIST, including multiple-year projects, will be fully funded at the time of award. Award terms will describe how recipients with satisfactory performance will draw down funds as needed from a Department of Treasury account.

Individual awards are expected to range between $500,000 and $1,500,000. Projects are expected to start by September of 2009.

Cost Share Requirements: None.

Eligibility: This program is open to U.S. institutions of higher education; U.S. non-profit organizations; U.S. commercial organizations; and state, local, and Indian tribal governments.

Evaluation Criteria: The evaluation criteria the technical reviewers will use in evaluating the proposals are as follows:

1. Technical merit of the proposal. Reviewers will consider the applicant's approach and the extent to which the proposal effectively addresses scientific and technical issues necessary to achieve success.

2. Qualifications of Technical Personnel. Reviewers will consider the ability of the proposed personnel to perform the proposed work as measured by evidence of skills, training and past professional accomplishments.

3. Relevance to NIST Programs. Reviewers will consider the degree to which the proposed work addresses topics of national importance as identified in the solicitation as well as the relevance of the work to advancements in measurement science and engineering of interest to current and future NIST programs.

4. Potential Impact of Proposal. Reviewers will consider the potential technical effectiveness of the proposal, the value it would contribute to the field of research, and its potential to enhance U.S. economic security and quality of life.

Each of these factors will be given equal weight in the evaluation process.

Selection Factors: The Selecting Official anticipates recommending proposals for funding in rank order unless a proposal is justified to be awarded out of rank order based on one or more of the following selection factors:

a. Availability of Federal funds,

b. Redundancy,

c. Balance/distribution of funds by research areas described in the Funding Opportunity Description section of the FFO,

d. Relevance to objectives of Recovery Act and alignment with subtopics described in the Funding Opportunity Description section of the FFO.

Therefore, the highest scoring proposals may not necessarily be selected for an award. If an award is made to an applicant that deviates from the scores of the reviewers, the Selecting Official shall justify the selection in writing based on selection factors described above.

Review and Selection Process: An initial administrative review of timely submitted proposals will be conducted to determine compliance with requirements and completeness of the proposal. Responsive and complete proposals will be considered further. Proposals that are nonresponsive and/or incomplete will be eliminated. Applicants will be notified if their proposal will not receive merit review. Each responsive and complete proposal will receive three independent technical reviews, which will include three individual written evaluations and scores, based on the evaluation criteria. The three scores for each proposal will be averaged. No consensus advice will be given by the technical reviewers. The individual proposal evaluations and average scores of each proposal will be considered by an Evaluation Board (a committee made up of seven (7) Federal employees: one chair and one coordinator for each of the focus areas). This Board will rank the proposals and make funding recommendations based on the selection factors described above to a Selecting Official for further consideration. In making final selections, the Selecting Official (Chief Scientist, NIST) will select funding recipients based upon the Evaluation Board's rank order of the proposals and the selection factors. NIST reserves the right to negotiate the cost and scope of the proposed work with the applicants that have been selected to receive awards. Applicants may be asked to modify work plans or budgets and provide supplemental information required by the agency prior to final approval of an award. NIST also reserves the right to reject a proposal where information is uncovered that raises a reasonable doubt as to the responsibility of the applicant. The final approval of selected proposals and award of grants will be made by the NIST Grants Officer. The award decision of the NIST Grants Officer is final.

The Department of Commerce Pre-Award Notification Requirements for Grants and Cooperative Agreements: The Department of Commerce Pre-Award Notification Requirements for Grants and Cooperative Agreements, which are contained in the Federal Register Notice of February 11, 2008 (73 FR 7696), are applicable to this solicitation. On the form SF-424, the applicant's 9-digit Dun and Bradstreet Data Universal Numbering System (DUNS) number must be entered in item 8.c. Organizational DUNS. The DUNS number provided MUST be the DUNS number for the entity within the applying institution that will be responsible for drawing down funds from the Automated Standard Application for Payment System (ASAP). Institutions that provide incorrect DUNS numbers may experience significant delays in receiving funds.

Collaborations with NIST Employees: All proposals should include a description of any work proposed to be performed by an entity other than the applicant, and the cost of such work should be included in the budget.

If an applicant proposes collaboration with NIST, the statement of work should include a statement of this intention, a description of the collaboration, and prominently identify the NIST employee(s) involved, if known. Any collaboration by a NIST employee must be approved by appropriate NIST management and is at the sole discretion of NIST. Prior to beginning the merit review process, NIST will verify the approval of the proposed collaboration. Any unapproved collaboration will be stricken from the proposal prior to the merit review.

Use of NIST Intellectual Property: If the applicant anticipates using any NIST-owned intellectual property to carry out the work proposed, the applicant should identify such intellectual property. This information will be used to ensure that no NIST employee involved in the development of the intellectual property will participate in the review process for that competition. In addition, if the applicant intends to use NIST-owned intellectual property, the applicant must comply with all statutes and regulations governing the licensing of Federal government patents and inventions, described at 35 U.S.C. 200-212, 37 CFR Part 401, 15 CFR 14.36, and in Section B.21 of the Department of Commerce Pre-Award Notification Requirements 73 FR 7696 (February 11, 2008). Questions about these requirements may be directed to the Office of the Chief Counsel for NIST, 301-975-2803.

Any use of NIST-owned intellectual property by an applicant is at the sole discretion of NIST and will be negotiated on a case-by-case basis if a project is deemed meritorious. The applicant should indicate within the statement of work whether it already has a license to use such intellectual property or whether it intends to seek one.

If any inventions made in whole or in part by a NIST employee arise in the course of an award made pursuant to this notice, the United States government, acting through NIST, may retain its ownership rights in any such inventions. Disposition of NIST's retained rights in such inventions will be determined solely by NIST, and may include, but is not limited to, the grant of a license(s) to parties other than the applicant to practice such inventions, or placing NIST's retained rights into the public domain.

Collaborations Making Use of Federal Facilities: All proposals should include a description of any work proposed to be performed using Federal facilities. If an applicant proposes use of NIST facilities, the statement of work should include a statement of this intention and a description of the facilities. Any use of NIST facilities must be approved by appropriate NIST management and is at the sole discretion of NIST. Prior to beginning the merit review process, NIST will verify the availability of the facilities and approval of the proposed usage. Any unapproved facility use will be stricken from the proposal prior to the merit review. Examples of some facilities that may be available for collaborations are listed on the NIST Technology Services Web site, http://ts.nist.gov/.

Paperwork Reduction Act: The standard forms in the application kit involve a collection of information subject to the Paperwork Reduction Act. The use of Standard Forms 424, Application for Federal Assistance, 424A, Budget Information Non-Construction, 424B, Assurances Non-Construction, SF-LLL, Certification Regarding Lobbying, and CD-346, Disclosure of Lobbying Activities, has been approved by OMB under the respective Control Numbers 0348-0043, 0348-0044, 0348-0040, 0348-0046, and 0605-0001.

Notwithstanding any other provision of the law, no person is required to respond to, nor shall any person be subject to a penalty for failure to comply with, a collection subject to the requirements of the Paperwork Reduction Act, unless that collection of information displays a currently valid OMB Control Number.

Research Projects Involving Human Subjects, Human Tissue, Data or Recordings Involving Human Subjects: Any proposal that includes research involving human subjects, human tissue, data or recordings involving human subjects must meet the requirements of the Common Rule for the Protection of Human Subjects, codified for the Department of Commerce at 15 CFR Part 27. In addition, any proposal that includes research on these topics must be in compliance with any statutory requirements imposed upon the Department of Health and Human Services (DHHS) and other federal agencies regarding these topics, all regulatory policies and guidance adopted by DHHS, the Food and Drug Administration, and other Federal agencies on these topics, and all Presidential statements of policy on these topics.

NIST will accept the submission of proposals containing research activities involving human subjects. The human subjects research activities in a proposal will require approval by Institutional Review Boards (IRBs) possessing a current registration filed with DHHS and to be performed by institutions possessing a current, valid Federal-wide Assurance (FWA) from DHHS that is linked to the cognizant IRB. In addition, NIST as an institution requires that IRB approval documentation go through a NIST administrative review; therefore, research activities involving human subjects are not authorized to start within an award until approval for the activity is issued in writing from the NIST Grants Officer. NIST will not issue a single project assurance (SPA) for any IRB reviewing any human subjects protocol proposed to NIST.

President Obama has issued Executive Order No. 13,505 (74 FR 10667, March 9, 2009), revoking previous Executive Orders and Presidential statements regarding the use of human embryonic stem cells in research. NIST will follow any guidance issued by the National Institutes of Health (NIH) pursuant to the Executive Order and will develop its own procedures based on the NIH guidance before funding research using human embryonic stem cells. NIST will follow any additional polices or guidance issued by the current Administration on this topic.

Research Projects Involving Vertebrate Animals: Any proposal that includes research involving vertebrate animals must be in compliance with the National Research Council's “Guide for the Care and Use of Laboratory Animals,” which can be obtained from National Academy Press, 2101 Constitution Avenue, NW., Washington, DC 20055. In addition, such proposals must meet the requirements of the Animal Welfare Act (7 U.S.C. 2131 et seq.), 9 CFR Parts 1, 2, and 3, and if appropriate, 21 CFR Part 58. These regulations do not apply to proposed research using pre-existing images of animals or to research plans that do not include live animals that are being cared for, euthanized, or used by the project participants to accomplish research goals, teaching, or testing. These regulations also do not apply to obtaining animal materials from commercial processors of animal products or to animal cell lines or tissues from tissue banks.

Notification of Recovery Act Requirements: Recovery Act limitations are applicable to the projects funded in this Notice. Recipients must comply with the following three provisions of the Recovery Act, as applicable, and any other terms required by the Act or that may be added to the recipient's award pursuant to guidance implemented by the Office of Management and Budget.

Buy American Act Provision: Unless waived by DoC, none of the funds appropriated or otherwise made available by the Recovery Act may be used for a project for the construction, alteration, maintenance, or repair of a public building or public work unless all of the iron, steel, and manufactured goods used in the project are produced in the United States. This provision shall be applied in a manner consistent with United States obligations under international agreements.

Davis-Bacon Act: Under Section 1606 of the Recovery Act, projects using Recovery Act funds require the payment of not less than the prevailing wages under the Davis-Bacon Act to “all laborers and mechanics employed by contractors and subcontractors on projects funded directly by or assisted in whole or in part by and through the Federal Government.”

False Claims Act: Each recipient or sub-recipient awarded funds under the Recovery Act shall promptly refer to an appropriate inspector general any credible evidence that a principal, employee, agent, contractor, sub-grantee, subcontractor, or other person has submitted a false claim under the False Claims Act or has committed a criminal or civil violation of laws pertaining to fraud, conflict of interest, bribery, gratuity, or similar misconduct involving those funds.

Ensuring Responsible Spending of Recovery Act Funds. The agency expects programs under this notice to be implemented in general compliance with any guidance issued by the Office of Management and Budget regarding the President's Memorandum for the Heads of Executive Departments and Agencies of March 20, 2009, Ensuring Responsible Spending of Recovery Act Funds, 74 FR 12531 (March 25, 2009).

Best Practices to Promote Equality of Opportunity. Pursuant to OMB Guidance (see, “Updated Implementing Guidance for the American Recovery and Reinvestment Act of 2009,” April 3, 2009) and consistent with the Recovery Act and other applicable laws, DoC encourages recipients to implement best practices to promote equality of opportunity, to provide opportunities for small and disadvantaged businesses, including veteran-owned small businesses and service disabled veteran-owned small businesses, and to follow sound labor practices.

Reporting Requirements: Reporting requirements are described in the Department of Commerce Financial Assistance Standard Terms and Conditions, dated March, 2008, found on the Internet at: http://oamweb.osec.doc.gov/docs/GRANTS/DOC%20STCsMAR08Rev.pdf. The references in Sections A.01 and B.01 of the Department of Commerce Financial Assistance Standard Terms and Conditions, dated March, 2008, to “Financial Status Report (SF-269)” and “SF-269” are hereby replaced with “Federal Financial Report (SF-425)” and “SF-425,” respectively, as required by the Office of Management and Budget (OMB) (73 FR 61175, October 15, 2008). As authorized under 15 CFR 14.52 and 24.41, the OMB-approved SF-425 shall be used in the place of the SF-269 and SF-272 under the uniform administrative requirements and elsewhere under awards in this program where such forms are referenced.

In addition, as set out in Sec. 1512(c) of the Recovery Act, no later than ten (10) days after the end of each calendar quarter, any recipient that receives funds under the Recovery Act from NIST must submit a report to NIST that contains:

a. The total amount of Recovery Act funds received from NIST;

b. The amount of Recovery Act funds received that were expended or obligated to projects or activities;

c. A detailed list of all projects or activities for which Recovery Act funds were expended or obligated; and

d. Detailed information on any subcontracts or subgrants awarded by the recipient to include the data elements required to comply with the Federal Funding Accountability and Transparency Act of 2006 (Pub. L. 109-282), allowing aggregate reporting on awards below $25,000 or to individuals, as prescribed by the Director of the Office of Management and Budget.

Recipients that must report information in accordance with paragraph (d) above must register with the Central Contractor Registration database (http://www.ccr.gov/) or complete other registration requirements as determined by the Director of the Office of Management and Budget. Section 1512(d) further requires that no later than thirty (30) days after the end of each calendar quarter, NIST must make the information in reports submitted under section 1512(c) of the Recovery Act as outlined above publicly available by posting the information on a Web site. OMB Memo M-09-10, “Initial Implementing Guidance for the American Recovery and Reinvestment Act of 2009,” which can be accessed at http://www.recovery.gov/, provides information on requirements for Federal agencies under the Recovery Act. Recipients must also comply with any additional guidance which may be forthcoming related to responsibilities of recipients of grants and cooperative agreements under the Recovery Act.

Funding Availability and Limitation of Liability: The funding periods and funding amounts referenced in this notice and request for proposals are subject to the availability of funds, as well as to Department of Commerce and NIST priorities at the time of award. The Department of Commerce and NIST will not be held responsible for proposal preparation costs. Publication of this notice does not obligate the Department of Commerce or NIST to award any specific grant or cooperative agreement or to obligate all or any part of available funds. No funding is anticipated at this time to provide further support beyond the award period to any project that may receive funds under this program.

Executive Order 12866: This funding notice was determined to be not significant for purposes of Executive Order 12866.

Executive Order 13132 (Federalism): It has been determined that this notice does not contain policies with federalism implications as that term is defined in Executive Order 13132.

Executive Order 12372: Proposals under this program are not subject to Executive Order 12372, “Intergovernmental Review of Federal Programs.”

Administrative Procedure Act/Regulatory Flexibility Act: Notice and comment are not required under the Administrative Procedure Act (5 U.S.C. 553), or any other law, for rules relating to public property, loans, grants, benefits or contracts (5 U.S.C. 553 (a)). Because notice and comment are not required under 5 U.S.C. 553, or any other law, for rules relating to public property, loans, grants, benefits or contracts (5 U.S.C. 553(a)), a Regulatory Flexibility Analysis is not required and has not been prepared for this notice, 5 U.S.C. 601 et seq.

Dated: May 26, 2009.
Patrick D. Gallagher,
Deputy Director.

[FR Doc. E9-12667 Filed 5-29-09; 8:45 am]

BILLING CODE 3510-13-P